DEPARTMENT OF HEALTH AND HUMAN SERVICES

Administration for Strategic Preparedness and Response

National Advisory Committee on Children and Disasters Public Meeting

AGENCY: Administration for Strategic Preparedness and Response (ASPR), U.S. Department of Health and Human Services (HHS).

ACTION: Notice.

SUMMARY: The National Advisory Committee on Children and Disasters (NACCD or the Committee) will conduct a public meeting (virtual) to discuss potential recommendations to the HHS Secretary and ASPR regarding challenges, opportunities, and priorities for national public health and medical preparedness, response, and recovery specific to the needs of children and their families in disasters.

DATES: The public meeting (virtual) will be held December 4, 2024.

ADDRESSES: A more detailed agenda and meeting registration link will be available on the NACCD meeting website at https://aspr.hhs.gov/AboutASPR/WorkingwithASPR/BoardsandCommittees/Pages/NACCD/Public-Meetings.aspx.

FOR FURTHER INFORMATION CONTACT: Zhoowan Jackson, NACCD Designated Federal Officer, Administration for Strategic Preparedness and Response (ASPR), U.S. Department of Health and Human Services (HHS), Washington, DC; 202-205-4217, NACCD@hhs.gov.

SUPPLEMENTARY INFORMATION: The NACCD is established by section 2811A of the Public Health Service Act (42 U.S.C. 300hh-10b) as amended by the Pandemic and All Hazards Preparedness and Advancing Innovation Act and governed by the provisions of the Federal Advisory Committee Act (5 U.S.C. app.). The statute directs the NACCD to evaluate issues and programs and provide findings, advice, and recommendations to the HHS Secretary and ASPR to support and enhance all-hazards public health and medical preparedness, response, and recovery aimed at meeting the unique needs of children and their families across the entire spectrum of their wellbeing. The HHS Secretary has formally delegated authority to operate the NACCD to ASPR.

Procedures for Public Participation: Members of the public may attend the meeting via a toll-free phone number or Zoom teleconference, which requires pre-registration. The meeting link to pre-register will be posted on the NACCD meeting website. Members of the public may provide written comments or submit questions for consideration to the NACCD at any time via email to NACCD@hhs.gov. Members of the public are also encouraged to provide comments after the meeting. The NACCD invites those who are involved in or represent a relevant industry, academia, health profession, health care consumer organization, or state, tribal, territorial, or local government to request up to four minutes to address the committee live via Zoom. Requests to provide remarks to the NACCD during the public meeting must be sent to NACCD@hhs.gov at least 10 days prior to the meeting along with a brief description of the topic. We would specifically like to request inputs from the public on the future of pediatric disaster care networks and any barriers to success as well as other challenges, opportunities, and strategic priorities for national public health and medical preparedness, response, and recovery specific to the needs of children and their families in disasters.

The Administrator and Assistant Secretary for Preparedness and Response of ASPR, Dawn O'Connell, having reviewed and approved this document, authorizes Adam DeVore, who is the Federal Register Liaison, to electronically sign this document for purposes of publication in the Federal Register.

Adam DeVore,
Federal Register Liaison, Administration for Strategic Preparedness and Response.

[FR Doc. 2024-25886 Filed 11-12-24; 8:45 am]

BILLING CODE 4150-37-P